ENVIRONMENTAL PROTECTION AGENCY

[ER-FRL-6619-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-FHW-F40395-WI Rating EC2, County Highway J/Wis 164 (I-94 to County E) Corridor Study, Improvements, City of Pewaukee, Villages of Pewaukee and Sussex Towns of Lisbon, Richfield and Polk, Waukesha and Washington Counties, WI.

Summary: EPA's review identified issues relating to direct and cumulative impacts to wetlands; indirect impacts from increased urbanization; and expressed concerns regarding impacts to water quality.

ERP No. D-FHW-H40171-NB Rating EC2, Lincoln South and East Beltways Project, To Complete a Circumferential Transportation System linking I-80 on the north and U.S. 77 on the west, Funding, COE 404 Permit, Lancaster County, NB.

Summary: EPA expressed concerns regarding the range of alternatives meeting the purpose and need for the project, archeological resources and asked for more information regarding wetlands mitigation.

ERP No. D-FTA-B59001-CT Rating LO, New Britain—Hartford Busway Project, Proposal to Build an Exclusive Bus Rapid Transit (BRT) Facility, Located in the Towns/Cities of New Britain, Newington, West Hartford and Hartford, CT.

Summary: EPA raised no objections to the proposed project and encouraged CTDOT/FHWA to consider emission retrofit devices to reduce emissions.

ERP No. D-FTA-K40243-CA Rating EC2, Mid-City/Westside Transit Corridor Improvements, Wilshire Bus Rapid Transit and Exposition Transitway, Construction and Operation, Funding, Section 404 Permit, Los Angeles County, CA.

Summary: EPA expressed concerns regarding Environmental Justice impacts along the Exposition corridor and the storage and maintenance sites. EPA also expressed concerns regarding the provision of Park and Ride facilities in excess of parking demand. EPA requested additional analysis and documentation on both of these issues.

Final EISs

ERP No. F-AFS-J61103-MT Discovery Ski Area Expansion, Implementation, Special-Use-Permit and COE Section 404 Permit, Beaverhead-Deerlodge National Forest, Pintler Ranger District, Rumsey Mountain, Granite County, MT.

Summary: EPA continues to express concerns regarding the information used to support expansion of the ski area; inadequate analysis; disclosure of indirect effects of induced development associated with the ski area expansion; and growth pressures to serve and accommodate increasing numbers of skiers.

ERP No. F-FHW-F40784-OH OH-7 (LAW-7) Relocation, OH-7 and OH-527 to a point Northeast of Rome Township and OH-607 from East Huntington Bridge to an Interchange with proposed OH-7 and OH-775, Funding, Lawrence County, OH.

Summary: Because the final EIS indicates that the Feasible Alternative B has been selected for implementation, EPA's previously expressed environmental concerns have now been fully addressed and resolved.

ERP No. F-FHW-G40156-TX TX-130 Construction, I-35 of Georgetown to I-10 near Seguin, Funding, COE Section 404 Permit, Williamson, Travis, Caldwell, Guadalupe Counties, TX.

Summary: EPA's review found that comments offered on the draft EIS have been responded to in the final EIS. EPA had no additional comments.

ERP No. F-FHW-J40152-CO South I-25 and US 85 Corridors Improvements, CO-470 to Castle Rock, Funding, Douglas County, CO.

Summary: EPA was pleased with the cumulative impacts assessment done by FHWA and CDOT as well as the coordination and mitigation planning initiated with other parties. EPA expressed concern for the lack of quantification of secondary impacts to some potentially affected resources.

ERP No. F-FHW-K40232-CA San Francisco—Oakland Bay Bridge, East Span Seismic Safety Project, Connection between I-80 Yerba Buena Island and Oakland, US Coast Guard Permit and COE Section 404 Permit, San Francisco and Alameda Counties, CA.

Summary: EPA's review of the final EIS found that the document adequately addressed the issues raised in EPA's comment letter regarding the draft EIS.

Dated: June 26, 2001.
Joseph C. Montgomery,
Director, NEPA Compliance Division, Office of Federal Activities.

[FR Doc. 01-16458 Filed 6-28-01; 8:45 am]

BILLING CODE 6560-50-P